DEPARTMENT OF COMMERCE

National Oceanic and Atmospheric Administration

RIN 0648-XR61

Marine Mammals; File No. 14535

AGENCY: National Marine Fisheries Service (NMFS), National Oceanic and Atmospheric Administration (NOAA), Commerce.

ACTION: Notice; issuance of permit amendment.

SUMMARY: Notice is hereby given that Colleen Reichmuth, Ph.D., University of California at Santa Cruz, Long Marine Laboratory, 100 Shaffer Road, Santa Cruz, CA, has been issued a permit amendment (Permit No. 14535-01).

DATES: Written, telefaxed, or e-mail comments must be received on or before October 25, 2010.

ADDRESSES: The permit and related documents are available for review upon written request or by appointment in the following office(s):

Permits, Conservation and Education Division, Office of Protected Resources, NMFS, 1315 East-West Highway, Room 13705, Silver Spring, MD 20910; phone (301)713-2289; fax (301)713-0376;

Alaska Region, NMFS, P.O. Box 21668, Juneau, AK 99802-1668; phone (907)586-7221; fax (907)586-7249; and

Southwest Region, NMFS, 501 West Ocean Blvd., Suite 4200, Long Beach, CA 90802-4213; phone (562)980-4001; fax (562)980-4018.

FOR FURTHER INFORMATION CONTACT: Amy Sloan or Jennifer Skidmore, (301)713-2289.

SUPPLEMENTARY INFORMATION: On June 29, 2010, notice was published in the Federal Register (75 FR 37388) that a request for a permit amendment to conduct research on captive pinnipeds for scientific research had been submitted by the above-named applicant. The requested permit has been issued under the authority of the Marine Mammal Protection Act of 1972, as amended (16 U.S.C. 1361 et seq.), and the regulations governing the taking and importing of marine mammals (50 CFR part 216).

Permit No. 14535-01 authorizes the addition of two non-releasable animals of each of the following species to the captive research program: ringed seal (Phoca hispida), bearded seal (Erignathus barbatus), and spotted seal (Phoca largha). The purpose is to expand the comparative understanding of basic perceptual and cognitive function among pinnipeds and to assess potential impacts of human noise on marine mammals. The amendment is for the duration of the permit, which expires on December 31, 2014.

In compliance with the National Environmental Policy Act of 1969 (42 U.S.C. 4321 et seq.), a final determination has been made that the activity proposed is categorically excluded from the requirement to prepare an environmental assessment or environmental impact statement.

Dated: September 17, 2010.
P. Michael Payne,
Chief, Permits, Conservation and Education Division, Office of Protected Resources, National Marine Fisheries Service.

[FR Doc. 2010-24040 Filed 9-23-10; 8:45 am]

BILLING CODE S